DEPARTMENT OF COMMERCE

International Trade Administration

[Application No. 10-5A001]

Export Trade Certificate of Review

ACTION: Notice of issuance of an amended Export Trade Certificate of Review to Alaska Longline Cod Commission (“ALCC”), Application No. 10-5A001.

SUMMARY: The Secretary of Commerce, through the Office of Trade and Economic Analysis (“OTEA”), issued an amended Export Trade Certificate of Review (“Certificate”) to ALCC on October 26, 2021.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4001 21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

ALCC's Export Trade Certificate of Review has been amended as follows:

1. Added the following companies as new Members of the Certificate within the meaning of section 325.2(l) of the Regulations (15 CFR 325.2(l)):

a. Aleutian Longline, LLC, Seattle, WA;

b. Bristol Wave Seafoods, LLC, Seattle, WA;

c. Coastal Alaska Premier Seafoods, LLC, Anchorage, AK;

d. Gulf Prowler, LLC, Juneau, AK;

e. Kodiak Leader Fisheries LLC, Lynden, WA; and

f. Starfish Reverse, LLC, Seattle, WA.

2. Changed the address for the following entities:

a. Beauty Bay Washington, LLC, changes address from Edmonds, WA to Bothell, WA.

b. Tatoosh Seafoods, LLC, changes address from Edmonds, WA to Kingston, WA.

3. Removed the following Members of the Certificate:

a. Prowler Fisheries LLC, Seattle, WA;

b. Blue North Fisheries, Inc., Seattle, WA;

c. Blue North Trading Company, LLC, Seattle, WA;

d. Clipper Group, Ltd., Seattle, WA;

e. Clipper Seafoods, Ltd., Seattle, WA;

f. Liberator Fisheries LLC, Seattle, WA; and

g. Siberian Sea Fisheries LLC, Seattle, WA.

4. Retained the names of the following Members, as updated in Application No. 10-4A001:

a. Bristol Leader Fisheries LLC;

b. Bering Leader Fisheries LLC; and

c. Northern Leader Fisheries LLC.

ALCC's Membership, as amended, is below:

1. Akulurak LLC, Seattle, WA;

2. Alaskan Leader Fisheries LLC, Lynden, WA;

3. Alaskan Leader Seafoods LLC, Lynden, WA;

4. Alaskan Leader Vessel LLC, Lynden, WA;

5. Aleutian Longline, LLC, Seattle, WA;

6. Aleutian Spray Fisheries, Inc., Seattle, WA;

7. Beauty Bay Washington, LLC, Bothell, WA;

8. Bering Leader Fisheries LLC, Lynden, WA;

9. Bristol Leader Fisheries LLC, Lynden, WA;

10. Bristol Wave Seafoods, LLC, Seattle, WA

11. Coastal Alaska Premier Seafoods, LLC, Anchorage, AK

12. Coastal Villages Longline LLC, Anchorage, AK;

13. Deep Sea Fisheries, Inc., Everett, WA;

14. Gulf Mist, Inc., Everett, WA;

15. Gulf Prowler, LLC, Juneau, AK;

16. Kodiak Leader Fisheries LLC, Lynden, WA

17. Northern Leader Fisheries LLC, Lynden, WA;

18. Romanzof Fishing Company, L.L.C., Seattle, WA;

19. Shelford's Boat, Ltd., Mill Creek, WA;

20. Siu Alaska Corporation, Anchorage, AK;

21. Starfish Reverse, LLC, Seattle, WA;

22. Tatoosh Seafoods, LLC, Kingston, WA.

The effective date of the amended Certificate is July 28, 2021, the date on which ALCC's application to amend was deemed submitted.

Dated: November 3, 2021.
Joseph Flynn,
Director, Office of Trade and Economic Analysis, International Trade Administration, U.S. Department of Commerce.

[FR Doc. 2021-24415 Filed 11-8-21; 8:45 am]

BILLING CODE 3510-DR-P